DEPARTMENT OF JUSTICE

Drug Enforcement Administration

Manufacturer of Controlled Substances; Notice of Application

Pursuant to § 1301.33(a) of Title 21 of the Code of Federal Regulations (CFR), this is notice that on June 13, 2005, Cerilliant API Services, LLC, 811 Paloma Drive, Suite A, Round Rock, Texas 78664, made application to the Drug Enforcement Administration (DEA) for registration as a bulk manufacturer of the basic classes of controlled substances listed in Schedule I and II; and by letter dated September 2, 2005, to modify its name to Austin Pharma, LLC.

Drug | Schedule
Lysergic acid diethylamide (7315) | I
Marihuana (7360) | I
Tetrahydrocannabinois (7370) | I
3,4-Methylenedioxyamphetamine (7400) | I
3,4-Methylenedioxy-N-ethylamphetamine (7404) | I
3,4-Methylenedioxymethamphetamine (7405) | I
Psilocyn (7438) | I
Acetyldihydrocodeine (9051) | I
Benzylmorphine (9052) | I
Codeine-N-oxide (9053) | I
Cyprenorphine (9054) | I
Desomorphine (9055) | I
Etorphine (9056) | I
Codeine methylbromide (9070) | I
Dihydromorphine (9145) | I
Heroin (9200) | I
Hydromorphinol (9301) | I
Methyldihydromorphine (9304) | I
Morphine methylbromide (9305) | I
Morphine-N-oxide (9307) | I
Alphamethadol (9605) | I
Normethadone (9635) | I
Amphetamine (1100) | II
Methamphetamine (1105) | II
Cocaine (9041) | II
Codeine (9050) | II
Dihydrocodeine (9120) | II
Oxycodone (9143) | II
Hydromorphone (9150) | II
Benzoylecgonine (9180) | II
Ecgonine (9180) | II
Hydrocodone (9193) | II
Levomethorphan (9210) | II
Methadone (9250) | II
Methadone intermediate (9254) | II
Morphine (9300) | II
Thebaine (9333) | II
Levo-alphacetylmethadol (9648) | II
Oxymorphone (9652) | II
Poppy Straw Concentrate (9670) | II
Alfentanil (9737) | II
Remifentanil (9739) | II
Sufentanil (9740) | II
Carfentanil (9743) | II
Fentanyl (9801) | II

The company plans to manufacture the listed controlled substances in bulk for distribution to its customers.

In reference to drug code 7360 (Marihuana), the company plans to bulk manufacture cannabidiol as a synthetic intermediate. This controlled substance will be further synthesized to bulk manufacture a synthetic THC (7370). No other activity for this drug code is authorized for this registration.

Any other such applicant and any person who is presently registered with DEA to manufacture such a substance may file comments or objections to the issuance of the proposed registration pursuant to 21 CFR 1301.33(a).

Any such written comments or objections being sent via regular mail may be addressed, in quintuplicate, to the Deputy Assistant Administrator, Office of Diversion Control, Drug Enforcement Administration, Washington, DC 20537, Attention: DEA Federal Register Representative, Liaison and Policy Section (ODL); or any being sent via express mail should be sent to DEA Headquarters, Attention: DEA Federal Register Representative/ODL, 2401 Jefferson-Davis Highway, Alexandria, Virginia 22301; and must be filed no later than May 23, 2006.

Dated: March 20, 2006.
Joseph T. Rannazzisi,
Deputy Assistant Administrator, Office of Diversion Control, Drug Enforcement Administration.

[FR Doc. E6-4302 Filed 3-23-06; 8:45 am]

BiLLiNG CODE 4410-09-P